DEPARTMENT OF TRANSPORTATION

Surface Transportation Board

[STB Ex Parte No. 680]

Study of Competition in the Freight Railroad Industry

AGENCY: Surface Transportation Board.

ACTION: Notice.

SUMMARY: The Surface Transportation Board seeks written public comments on the independent study prepared by Christensen Associates, Inc., entitled, A Study of Competition in the U.S. Freight Railroad Industry and Analysis of Proposals That Might Enhance Competition.

DATES: Comments are due on or before December 22, 2008.

ADDRESSES: The Study may be accessed via the Board's Web site at http://www.stb.dot.gov. Comments may be submitted either via the Board's e-filing format or in traditional paper format. Any person using e-filing should attach a document and otherwise comply with the instructions at the E-FILING link on the Board's Web site at http://www.stb.dot.gov. Any person submitting a filing in the traditional paper format should send an original and 10 copies referring to STB Ex Parte No. 680 to: Surface Transportation Board, 395 E Street, SW., Washington, DC 20423-0001.

FOR FURTHER INFORMATION CONTACT: Timothy Strafford, (202) 245-0356. [Assistance for the hearing impaired is available through the Federal Information Relay Service (FIRS) at: (800) 877-8339.]

SUPPLEMENTARY INFORMATION: In September 2007, the Board awarded a contract to Christensen Associates to conduct an independent study that provides a comprehensive analysis of a wide range of issues including competition, capacity, and the interplay between the two. The report also includes an examination of various regulatory policy alternatives that could lead to changes in the Board's regulatory approach if necessary.

On November 6, 2008, the Board held a public meeting with Christensen Associates to discuss the study. The Board has made the report available to the public via its Web site and now seeks public comments from all interested persons.

This action will not significantly affect either the quality of the human environment or the conservation of energy resources.

Decided: November 6, 2008.
By the Board, Anne K. Quinlan, Acting Secretary.
Jeff Herzig,
Clearance Clerk.

[FR Doc. E8-26944 Filed 11-12-08; 8:45 am]

BILLING CODE 4915-01-P